EXPORT-IMPORT BANK

[Public Notice: 2015-6001]

Agency Information Collection Activities: Comment Request

AGENCY: Export-Import Bank of the U.S.

ACTION: Submission for OMB review and comments request.

Title: EIB 15-01, Generic Clearance for the Collection of Feedback on Electronic Interfaces with Customers.

SUMMARY: The Export-Import Bank of the United States (Ex-Im Bank), as a part of its continuing effort to reduce paperwork and respondent burden, conducts a pre-clearance consultation program to provide the general public and Federal Agencies with an opportunity to comment on proposed information collections, as required by the Paperwork Reduction Act of 1995.

Ex-Im Bank is soliciting comments on the following proposed Generic Information Collection Request (Generic ICR): “Generic Clearance for the Collection of Qualitative Feedback on Electronic Interfaces with Customers” for approval under the Paperwork Reduction Act. This collection was developed as an effort to streamline the process for seeking feedback from the public on the electronic interfaces (Web site and online application systems) used by Ex-Im Bank customers. This notice announces our intent to submit this collection to OMB for approval and solicits comments on specific aspects for the proposed information collection.

DATES: Comments should be received on or before June 26, 2015 to be assured of consideration.

ADDRESSES: Comments may be submitted electronically on http://www.regulations.gov or by mail to Michele Kuester, Export-Import Bank of the United States, 811 Vermont Ave. NW., Washington, DC 20571.

SUPPLEMENTARY INFORMATION:

Title: EIB 15-01, Generic Clearance for the Collection of Feedback on Electronic Interfaces with Customers.

OMB Number: TBD.

Type of Review: New.

Need and Use: This is a request for a new three-year generic clearance for the Export-Import Bank of the United States (Ex-Im Bank) that will allow it to develop, test and improve its digital customer interfaces—including on-line applications for financing support, other on-line reporting, and the agency's Web site. The procedures used to this effect include, but are not limited to, tests of various interfaces through focus groups, cognitive testing, web-based experiments and usability testing.

Ex-Im Bank is requesting the generic clearance in order to test new or proposed methodologies for customer interfaces, data collection activities, and Web site design. We believe the generic clearance will be a helpful vehicle for evaluating the usability and effectiveness of these methodologies.

In the past, Ex-Im Bank has approached design and testing through convenience samples of nine or fewer persons to provide input and feedback or by relying on employee feedback. Neither of these approaches meets Ex-Im Bank's needs to collect meaningful information on the usability and effectiveness of its customer interfaces.

In the reference document we have provided a description of the scope of possible activities that might be covered under this clearance. The requested clearance is important to Ex-Im Bank's usability testing program, because of the length of time required to develop customer interfaces.

The specific methods proposed for coverage by this clearance are listed below. Also outlined are the procedures Ex-Im Bank plans to put in place for keeping OMB informed about the identity of the usability tests and the nature of the research activities being conducted.

The methods proposed for use in system development are as follows:

• Pilot testing,

• Behavior coding,

• Exploratory interviews,

• Split sample experiments,

• Cognitive and usability interviews, and

• Focus groups.

Before each testing activity is undertaken, Ex-Im Bank will provide OMB with a memo describing the study to be conducted and a copy of the instrumentation and instruction materials that will be used. Depending on the stage of instrumentation development, this may be a printed questionnaire, a set of prototype items showing each item type to be used and the range of topics to be covered by the questionnaire, or an interview script. When split sample experiments are conducted, either in small group sessions or as part of a field test, the different versions of the questionnaires to be used will be provided. For a test of alternative procedures, the description and rationale for the procedures will be submitted. A brief description of the planned field activity will also be provided.

Affected Public: Individuals representing companies engaged in business with the Export-Import Bank of the U.S.

Annual Number of Respondents: 72.

Estimated Time per Respondent: 12 hours.

Annual Burden Hours: 864 hours.

Frequency of Reporting or Use: On occasion.

Government Expenses: TBD.

Toya Woods,
Records Management Division, Office of the Chief Information Officer.

[FR Doc. 2015-09668 Filed 4-24-15; 8:45 am]

BILLING CODE 6690-01-P